DEPARTMENT OF TRANSPORTATION

Pipeline and Hazardous Materials Safety Administration

49 CFR Part 107

[Docket No. PHMSA-2022-0033 (HM-208J)]

RIN 2137-AF59

Hazardous Materials: Adjusting Registration and Fee Assessment Program

AGENCY: Pipeline and Hazardous Materials Safety Administration (PHMSA), Department of Transportation (DOT).

ACTION: Proposed rule; withdrawal.

SUMMARY: PHMSA is withdrawing its proposed rulemaking that would have increased registration fees for persons who transport, or offer for transportation, certain categories and quantities of hazardous materials.

DATES: The notice of proposed rulemaking published May 24, 2024 at 89 FR 45806 is withdrawn as of November 20, 2025.

FOR FURTHER INFORMATION CONTACT: Yul B. Baker, Jr., Standards and Rulemaking Division, Office of Hazardous Materials Safety, Pipeline and Hazardous Materials Safety Administration, U.S. Department of Transportation, 1200 New Jersey Avenue SE, Washington, DC 20590, at 202-366-8553.

SUPPLEMENTARY INFORMATION:

Table of Contents

I. What action is PHMSA taking?

II. What did PHMSA propose and why?

III. Why is PHMSA taking this action?

IV. What additional action is PHMSA taking?

V. Conclusion

I. What action is PHMSA taking?

PHMSA is withdrawing the notice of proposed rulemaking (NPRM), titled “Hazardous Materials: Adjusting Registration and Fee Assessment Program” (HM-208J),¹ under Docket No. PHMSA-2022-0033. This rulemaking proposed to increase the registration fees imposed under the statutorily mandated registration and fee assessment program for persons who transport, or offer for transportation, certain categories and quantities of hazardous materials. This rulemaking also proposed minor revisions to other registration program requirements.

¹ 89 FR 45806 (May 24, 2024).

II. What did PHMSA propose and why?

In the NPRM, PHMSA proposed the following revisions to the hazardous materials program procedures (49 CFR part 107):

• Revise § 107.612 to increase the annual registration fee to be paid by registrants qualifying as a small business or not-for-profit organization to $375 (i.e., a $125 increase), and to be paid by registrants not qualifying as a small business or not-for-profit organization to $3,000 (i.e., a $425 increase).

• Revise § 107.616 to require electronic-only registration fee payments.

• Revise § 107.620 recordkeeping requirements to clarify how a certificate of registration may be carried and provided to authorized personnel in either electronic or paper form for both motor carriers and vessels; to use consistent language for making available or furnishing the certificate of registration to authorized personnel or DOT enforcement personnel; and to remove sunrise dates for applicability of the requirements as these dates have passed and are no longer relevant to the respective provisions.

III. Why is PHMSA taking this action?

PHMSA is withdrawing the NPRM to reduce undue economic burdens on the hazardous materials transportation community. The withdrawal is consistent with Executive Order (E.O.) 14192,² “Unleashing Prosperity Through Deregulation,” which directs agencies to reduce unnecessary regulatory compliance burdens on both industry and the public. Stakeholder feedback on the NPRM also indicated uncertainty in the broader hazardous materials transportation community regarding the proposed fee increase, which provides further support for the withdrawal. PHMSA has determined that a fee increase is not necessary to maintain the level of funding needed to carry out the mission of its grants program, which is to support hazardous materials emergency response planning and training activities by States, local governments, and Native American Tribes—ensuring first responders are well trained and prepared to respond to hazardous materials related incidents—and to develop and distribute the Emergency Response Guidebook.

² 90 FR 9065 (Feb. 6, 2025).

IV. What additional action is PHMSA taking?

Although PHMSA has decided not to increase registration fees at this time, PHMSA is moving forward with two of the proposed amendments in separate NPRMs that were published on July 1, 2025. The first NPRM, “Hazardous Materials: Modernizing Payments To and From America's Bank Account (HM-268H),” ³ under Docket No. PHMSA-2025-0096, has proposed updates to the payment system for hazardous materials registration. The second NPRM, “Hazardous Materials: Reducing Recordkeeping Requirements for Domestic Carriers (HM-268I),” ⁴ under Docket No. PHMSA-2025-0097, has proposed revisions to the hazardous materials program procedures.

³ 90 FR 28528 (Jul. 1, 2025).

⁴ 90 FR 28531 (Jul. 1, 2025).

V. Conclusion

PHMSA will not increase registration fees at this time. PHMSA based this decision on the Administration's priority of minimizing economic burdens on the regulated hazardous materials transportation community consistent with E.O. 14192. PHMSA will proceed with the remaining proposed amendments to implement an electronic-only payment system and to clarify fee program requirements in separate rulemakings. PHMSA received no comments specific to these latter proposed changes. Accordingly, PHMSA is withdrawing the May 24, 2024 NPRM and terminating this rulemaking proceeding.

Issued in Washington, DC, on November 18, 2025, under the authority delegated in 49 CFR 1.97.
Paul J. Roberti,
Administrator, Pipeline and Hazardous Materials Safety Administration.

[FR Doc. 2025-20445 Filed 11-19-25; 8:45 am]

BILLING CODE 4910-60-P